DEPARTMENT OF COMMERCE

Foreign-Trade Zones Board

[B-72-2021]

Foreign-Trade Zone (FTZ) 93—Raleigh-Durham, North Carolina; Authorization of Production Activity; BrightView Technologies, Inc. (Plastic Film), Durham, North Carolina

On November 5, 2021, the Triangle J Council of Governments, grantee of FTZ 93, submitted a notification of proposed production activity to the FTZ Board on behalf of BrightView Technologies, Inc., within FTZ 93, in Durham, North Carolina.

The notification was processed in accordance with the regulations of the FTZ Board (15 CFR part 400), including notice in the Federal Register inviting public comment (86 FR 62985, November 15, 2021). On March 7, 2022, the applicant was notified of the FTZ Board's decision that no further review of the activity is warranted at this time. The production activity described in the notification was authorized, subject to the FTZ Act and the FTZ Board's regulations, including Section 400.14.

Dated: March 7, 2022.
Andrew McGilvray,
Executive Secretary.

[FR Doc. 2022-05074 Filed 3-9-22; 8:45 am]

BILLING CODE 3510-DS-P